DEPARTMENT OF HEALTH AND HUMAN SERVICES

Centers for Disease Control and Prevention

Disease, Disability, and Injury Prevention and Control Special Emphasis Panel: Mining Occupational Safety and Health Research, Request for Application OH-05-005; Correction

Correction: This notice was published in the Federal Register on March 31, 2005, Volume 70, Number 61, page 16505. The meeting location has been changed.

Meeting Location: Hyatt Regency Baltimore, 300 Light Street, Baltimore, MD 21202.

FOR FURTHER INFORMATION CONTACT: George Bockosh, MS, Scientific Review Administrator, National Institute for Occupational Safety and Health, CDC, National Personal Protective Technology Laboratory, 626 Cochrans Mill Road, Pittsburgh, PA 15236, Telephone (412) 386-6465.

The Director, Management Analysis and Services Office, has been delegated the authority to sign Federal Register notices pertaining to announcements of meetings and other committee management activities, for both CDC and the Agency for Toxic Substances and Disease Registry.

Dated: April 5, 2005.
Alvin Hall,
Director, Management Analysis and Services Office, Centers for Disease Control and Prevention.

[FR Doc. 05-7148 Filed 4-8-05; 8:45 am]

BILLING CODE 4163-18-P